COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and services to the Procurement List that will be furnished by nonprofit agencies employing persons who are blind or have other severe disabilities.

DATES: Effective Date: 10/31/2011

ADDRESSES: Committee for Purchase From People Who Are Blind or Severely Disabled, Jefferson Plaza 2, Suite 10800, 1421 Jefferson Davis Highway, Arlington, Virginia, 22202-3259.

FOR FURTHER INFORMATION CONTACT: Barry S. Lineback, Telephone: (703) 603-7740, Fax: (703) 603-0655, or e-mail CMTEFedReg@AbilityOne.gov.

SUPPLEMENTARY INFORMATION:

Additions

On 7/1/2011 (76 FR 38641-38642) and 8/5/2011 (76 FR 47565-47566), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

NSN: 8940-00-NIB-0094—Soup, Shelf-Stable, Cream of Mushroom, Low Sodium.

NSN: 8940-00-NIB-0095—Soup, Shelf-Stable, Cream of Chicken.

NPA: Cambridge Industries for the Visually Impaired, Somerset, NJ.

Contracting Activity: Department of Agriculture, Agricultural Marketing Service, Washington, DC.

Coverage: C-List for 100% of the requirement of the Department of Agriculture, as aggregated by the Department of Agriculture, Agricultural Marketing Service, Washington, DC.

Services

Service Type/Locations: Grounds Maintenance. National Weather Service Weather Forecast Office, 587 Aero Drive, Buffalo, NY. Radar Data Acquisition Site, 3 North Airport Drive, Cheektowaga, NY. Upper-Air Observatory, Amherst Villa Road, Cheektowaga, NY.

NPA: Suburban Adult Services, Inc., Elma, NY.

Contracting Activity: National Oceanic and Atmospheric Administration, Norfolk, VA.

Service Type/Location: Transient Aircraft Services. Moody AFB, GA.

NPA: Training, Rehabilitation, & Development Institute, Inc., San Antonio, TX.

Contracting Activity: Dept of the Air Force, FA4830 23 CONS CC, Moody AFB, GA

Barry S. Lineback,
Director, Business Operations.

[FR Doc. 2011-25269 Filed 9-29-11; 8:45 am]

BILLING CODE 6353-01-P